DEPARTMENT OF COMMERCE

International Trade Administration

[A-201-859]

Mattresses From Mexico: Postponement of Final Determination of Sales at Less Than Fair Value Investigation

AGENCY: Enforcement and Compliance, International Trade Administration, Department of Commerce.

SUMMARY: The U.S. Department of Commerce (Commerce) is postponing the deadline for issuing the final determination in the less-than-fair-value (LTFV) investigation of mattresses from Mexico until July 15, 2024, and is extending the provisional measures from a four-month period to a period of not more than six months.

DATES: Applicable March 29, 2024.

FOR FURTHER INFORMATION CONTACT: Dakota Potts or Benjamin Blythe, AD/CVD Operations, Office IV, Enforcement and Compliance, International Trade Administration, U.S. Department of Commerce, 1401 Constitution Avenue NW, Washington, DC 20230; telephone: (202) 482-0223 or (202) 482-3457, respectively.

SUPPLEMENTARY INFORMATION:

Background

On August 23, 2023, Commerce initiated an LTFV investigation of imports of mattresses from Mexico.¹ The period of investigation is July 1, 2022, through June 30, 2023. On March 1, 2024, Commerce published its preliminary determination in this LTFV investigation of mattresses from Mexico.²

¹ See Mattresses from Bosnia and Herzegovina, Bulgaria, Burma, India, Italy, Kosovo, Mexico, the Philippines, Poland, Slovenia, Spain, and Taiwan: Initiation of Less-Than-Fair-Value Investigations, 88 FR 57433 (August 23, 2023) (Initiation Notice).

² See Mattresses from Mexico: Preliminary Affirmative Determination of Sales at Less Than Fair Value, 89 FR 15152 (March 1, 2024) (Preliminary Determination).

Postponement of Final Determination and Extension of Provisional Measures

Section 735(a)(2) of the Tariff Act of 1930, as amended (the Act), and 19 CFR 351.210(b)(2) provide that a final determination may be postponed until not later than 135 days after the date of the publication of the preliminary determination if, in the event of an affirmative preliminary determination, a request for such postponement is made by an exporter or producer who accounts for a significant proportion of exports of the subject merchandise, or in the event of a negative preliminary determination, a request for such postponement is made by the petitioners. Further, 19 CFR 351.210(e)(2) requires that such postponement requests by exporters be accompanied by a request for extension of provisional measures from a four-month period to a period not more than six months, in accordance with section 733(d) of the Act.

On March 13, 2024, Ureblock S.A. de C.V. (Ureblock), a mandatory respondent in this investigation, requested that Commerce postpone the deadline for the final determination pursuant to 19 CFR 351.210(b)(2)(ii) and (e) and extend the application of the provisional measures from a four-month period to a period of not more than six months.³ In accordance with section 735(a)(2)(A) of the Act and 19 CFR 351.210(b)(2)(ii), because: (1) the preliminary determination was affirmative; (2) the request for postponement was made by an exporter and producer who accounts for a significant proportion of exports of the subject merchandise; and (3) no compelling reasons for denial exist, Commerce is postponing the final determination until no later than 135 days after the date of publication of the Preliminary Determination, and extending the provisional measures from a four-month period to a period of not more than six months. Accordingly, Commerce will issue its final determination no later than July 15, 2024.⁴

³ See Ureblock's Letter, “Ureblock's Request to Extend Final Determination in the Less-Than-Fair-Value Investigation of Mattresses from Mexico,” dated March 13, 2024.

⁴ Postponing the final determination to 135 days after the publication of the Preliminary Determination would place the deadline on Sunday, July 14, 2024. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 735(a)(2) of the Act and 19 CFR 351.210(g).

Dated: March 22, 2024.
Ryan Majerus,
Deputy Assistant Secretary for Policy and Negotiations, performing the non-exclusive functions and duties of the Assistant Secretary for Enforcement and Compliance.

[FR Doc. 2024-06683 Filed 3-28-24; 8:45 am]

BILLING CODE 3510-DS-P